DEPARTMENT OF ENERGY

Federal Energy Regulatory Commission

[Docket No. CP00-466-000]

Dominion Transmission, Inc., Notice of Application

September 26, 2000.

Take notice that on September 20, 2000, Dominion Transmission, Inc. (Dominion), formerly CNG Transmission Corporation, 445 West Main Street, Clarksburg, WV 26301, filed in Docket No. CP00-466-000, an application pursuant to Section 7(b) of the Natural Gas Act (NGA) and Part 157 of the Federal Energy Regulatory Commission's (Commission) Regulations for permission and approval to abandon its storage well AW-9476, which is located in the Fink-Kennedy/Lost Creek storage complex in Lewis County, West Virginia, all as more fully set forth in the application which is on file with the Commission and open to public inspection. This filing may be viewed on the web at http://www.ferc.fed.us/online/rims.htm. Call (202) 208-2222 for assistance.

Dominion states that, on September 18, 2000, the storage was discovered to be venting gas and efforts were begun to plug the well. Dominion also states that remediation of the well, which has been operational since 1950, is not feasible, or prudent for safety reasons, and would not be economically efficient. Finally, Dominion states that abandonment of well AW-9476 will not result in any change in the operation or design capacity of its system and that service to its customers will not be affected.

If there are any further questions regarding this project, the following individual may be contacted: Sean R. Sleigh, Certificates manager, Dominion Transmission, Inc., 445 West Main Street, Clarksburg, WV 26301, at (304) 623-8462.

Any person desiring to be heard or to make any protest with reference to said application should, on or before October 17, 2000, file with the Federal Energy Regulatory Commission, 888 First Street, NE., Washington, DC., 20426, a protest or motion to intervene in accordance with the requirements of the Commission's Rules of Practice and Procedure 918 CFR 385.211 or 385.214) and the Regulations Under the Natural Gas Act (18 CFR 157.10). All protests filed with the Commission will be considered by it in determining the appropriate action to be taken but will not serve to make the protestants parties to the proceeding. Any person wishing to become party to a proceeding or to participate as a party in any hearing therein must file a petition to intervene in accordance with the Commission's Rule.

Take further notice that, pursuant to the authority contained in and subject to the jurisdiction conferred upon the Federal Energy Regulatory Commission by Sections 7 and 15 of the Natural Gas Act and the Commission's Rules of Practice and Procedure, a hearing will be held without further notice before the Commission or its designee on this document if no motion to intervene is filed within the time required herein, if the Commission on its own review of the matter finds that permission and approval of the proposed abandonment is required by the public convenience and necessity. If a motion for leave to intervene is timely filed, or if the Commission on its own motion believes that a formal hearing is required, further notice of such hearing will be duly given.

Under the procedure herein provided for, unless otherwise advised, it will be unnecessary for Dominion to appear or be represented at the hearing.

David P. Boergers,
Secretary.

[FR Doc. 00-25111 Filed 9-29-00; 8:45 am]

BILLING CODE 6717-01-M